DEPARTMENT OF COMMERCE

Foreign-Trade Zones Board

Order No. 1555

Expansion of Foreign-Trade Zone 134, Chattanooga, Tennessee

Pursuant to its authority under the Foreign-Trade Zones Act of June 18, 1934, as amended (19 U.S.C. 81a-81u), the Foreign-Trade Zones Board (the Board) adopts the following Order:

WHEREAS, the Chattanooga Chamber Foundation, grantee of Foreign-Trade Zone 134, submitted an application to the Board for authority to expand its zone to include ten additional sites (5,277.37 acres total) located at the Enterprise South Industrial Park in Chattanooga (Site 3 - 3,133 acres), at the JIT Warehousing and Distribution Complex in Chattanooga (Site 4 - 13.7 acres), within the Bonny Oaks Industrial and Office Park in Chattanooga (Site 5 - 51.4 acres), at the Kenco-Polymer Warehouse Complex in Chattanooga (Site 6 - 16 acres), within the North Industrial Park in McMinnville (Site 7 - 46.62 acres), within the Mountain View Industrial Park in Morrison (Site - - 1,279.87 acres), at the Nickajack Port and Industrial Park in New Hope (Site 9 - 522.83 acres), at the Hiwassee River Industrial Park in Charleston (Site 10 - 121.15 acres), within the Cleveland/ Bradley Industrial Park in Cleveland (Site 11 - 87 acres), and within the Pike Hill Industrial Center in McMinnville (Site 12 - 5.8 acres), within and adjacent to the Chattanooga Customs and Border Protection port of entry (FTZ Docket 7-2007, filed 2/28/07);

WHEREAS, notice inviting public comment was given in the Federal Register (72 FR 10980, 3/12/07) and the application has been processed pursuant to the FTZ Act and the Board's regulations; and,

WHEREAS, the Board adopts the findings and recommendations of the examiner's report, and finds that the requirements of the FTZ Act and Board's regulations are satisfied, and that the proposal is in the public interest;

NOW, THEREFORE, the Board hereby orders:

The application to expand FTZ 134 is approved, subject to the FTZ Act and the Board’s regulations, including Section 400.28, subject to the Board’s 2,000-acre activation limit for the overall general-purpose zone project, and further subject to an initial five-year time limit (to April 30, 2013) for Sites 4, 5, 6, 7, 8 and 12 with extension available upon review.

Signed at Washington, DC, this 18th day of April 2008.

David M. Spooner,
Assistant Secretary of Commerce for Import Administration,Alternate Chairman Foreign-Trade Zones Board.
Attest:
Andrew McGilvray,
Executive Secretary.

[FR Doc. E8-9972 Filed 5-5-08; 8:45 am]

BILLING CODE 3510-DS-S